DEPARTMENT OF LABOR

Employment and Training Administration

[TA-W-50,360]

Ocean State Finishing Company, Woonsocket, RI; Notice of Revised Determination on Reconsideration

By application of April 17, 2003, a petitioner requested administrative reconsideration of the Department's negative determination regarding eligibility for workers and former workers of the subject firm to apply for Trade Adjustment Assistance (TAA).

The initial investigation resulted in a negative determination issued on March 17, 2003, based on the finding that imports of dyed and finished circular knit fabrics for the women's apparel industry did not contribute importantly to worker separations at the Woonsocket plant. The denial notice was published in the Federal Register on April 2, 2003 (68 FR 16093).

To support the request for reconsideration, the petitioner provided additional information to supplement that which was gathered during the initial investigation. Upon further review and contact with the company, evidence revealed that R.G. Knitting Mills, Inc., Woonsocket, Rhode Island, to whom the petitioning workers' firm or subdivision acts as a downstream producer, employed a group of workers who received a certification of eligibility for trade adjustment assistance based on an increase in imports from, or a shift in production to, Canada or Mexico, and the downstream production is related to the article that was the basis for such certification. R.G. Knitting Mills, Inc., Woonsocket, Rhode Island was affected by imports from Canada and Mexico while reducing purchases of dyed and finished circular knit fabrics for the women's apparel industry from the petitioning workers' firm or subdivision. The subject firm's employment declined, in part, because of the imports. Workers of R.G. Knitting Mills, Inc., Woonsocket, Rhode Island were certified as eligible to apply for Trade Adjustment Assistance on May 16, 2002 (TA-W-41,109).

Conclusion

After careful review of the facts obtained in the investigation, I determine that workers of Ocean State Finishing Company, Woonsocket, Rhode Island qualify as adversely affected secondary workers under Section 222(b) of the Trade Act of 1974, as amended. In accordance with the provisions of the Act, I make the following certification:

All workers of Ocean State Finishing Company, Woonsocket, Rhode Island who became totally or partially separated from employment on or after December 2, 2001, through two years from the date of certification are eligible to apply for adjustment assistance under Section 223 of the Trade Act of 1974.

Signed at Washington, DC this 3rd day of June 2003.
Elliott S. Kushner,
Certifying Officer, Division of Trade Adjustment Assistance.

[FR Doc. 03-15473 Filed 6-18-03; 8:45 am]

BILLING CODE 4510-30-P